DEPARTMENT OF TRANSPORTATION

Coast Guard

33 CFR Parts 26, 161, and 165

[USCG-1998-4399]

RIN 2115-AF75

Vessel Traffic Service Lower Mississippi River

AGENCY: Coast Guard, DOT.

ACTION: Proposed rulemaking; notice of public meeting.

SUMMARY: The Coast Guard announces a public meeting on October 24, 2000, to receive comments on a proposed rulemaking establishing a Vessel Traffic Service (VTS) on the Lower Mississippi River. The meeting will be held at the Marine Safety Office in New Orleans, LA.

DATES: This public meeting will be held on Tuesday, October 24, 2000, from 9 a.m. to 5 p.m. The meeting may close early if all business is finished.

ADDRESSES: The public meeting will be held in the hearing room of the Marine Safety Office, 1615 Poydras Street, New Orleans, LA 70112-1254.

FOR FURTHER INFORMATION CONTACT: For questions regarding the meeting location, contact Lieutenant Junior Grade Ken Mills, Vessel Traffic Service, telephone 504-589-2780. For questions regarding the proposed rulemaking, contact Mr. Jorge Arroyo, Office of Vessel Traffic Management,(G-MWV), Coast Guard, telephone 202-267-6277.

SUPPLEMENTARY INFORMATION: The notice of proposed rulemaking (NPRM) on a Vessel Traffic Service (VTS) on the Lower Mississippi River, published on April 26, 2000 (65 FR 24616), encouraged interested persons to participate in this rulemaking by submitting written data, views, or arguments by July 25, 2000. In response to several requests for additional time, the Coast Guard extended the comment period on the NPRM until December 1, 2000 (65 FR 50479). The NPRM and comments already received may be viewed at http://dms.dot.gov. The Coast Guard also received several requests for a public meeting at which interested parties could present their comments. This meeting is in response to those requests.

Information on Service for Individuals With Disabilities

For information on facilities or services for individuals with disabilities or to request special assistance at the public meeting, contact Lieutenant Junior Grade Ken Mills at the phone number under FOR FURTHER INFORMATION CONTACT.

Public Meeting

The Coast Guard will hold a public meeting regarding this proposed rulemaking on Tuesday, October 24, 2000, from 9 a.m. to 5 p.m. The meeting will be held at the address under ADDRESSES.

Dated: September 15, 2000.
Joseph J. Angelo,
Acting Assistant Commandant for Marine Safety and Environmental Protection.

[FR Doc. 00-24180 Filed 9-19-00; 8:45 am]

BILLING CODE 4910-15-U